DEPARTMENT OF THE INTERIOR

National Park Service

Notice of Extension of the Public Review Period for the Draft Environmental Impact Statement for the Oil and Gas Management Plan, Big Thicket National Preserve

AGENCY: National Park Service, Department of the Interior.

SUMMARY: This notice informs the public that the comment period is extended.

DATES: The comment period is extended 30 days, to March 10, 2005.

ADDRESSES: The OGMP/DEIS will be available for public review and comment at the following locations: Office of the Superintendent, Art Hutchinson, Big Thicket National Preserve, 3785 Milam Street, Beaumont, Texas 77701-4724, Telephone: (409) 951-6802; Office of Minerals/Oil and Gas Support, Intermountain Region, National Park Service, 1100 Old Santa Fe Trail, Santa Fe, New Mexico 87501, Telephone: (505) 988-6095; Planning and Environmental Quality, Intermountain Region, National Park Service, 12795 W. Alameda Parkway, Lakewood, Colorado 80228, Telephone: (303) 969-2377; Office of Public Affairs, Department of the Interior, 18th and C Streets NW., Washington, DC 20240, Telephone: 202-208-6843. The OGMP/DEIS can also be downloaded at http://www.nps.gov/bith/pphtml/documents.html. A printed copy or CD is also available, upon request, from Linda Dansby, EIS Project Manager, while supplies last.

FOR FURTHER INFORMATION CONTACT: Linda Dansby, EIS Project Manager, Office of Minerals/Oil and Gas Support, Intermountain Region, P.O. Box 728, Santa Fe, New Mexico 87504-0728, telephone (505) 988-6095.

SUPPLEMENTARY INFORMATION: Notices of availability of the Draft Environmental Impact Statement for the Oil and Gas Management Plan, Big Thicket National Preserve, Texas, were published in the Federal Register by the National Park Service on December 13, 2004, (69 FR 72214-72215) and by the U.S. Environmental Protection Agency on December 10, 2004. (EIS No. 040555) (69 FR 71811). The 60-day public review period began on the day of the EPA's publication and would have ended on February 8, 2005.

Dated: January 7, 2005.
John A. Wessels,
Acting Director, Intermountain Region, National Park Service.

[FR Doc. 05-1573 Filed 1-27-05; 8:45 am]

BILLING CODE 4312-CB-P